DEPARTMENT OF THE INTERIOR

National Park Service

[NPS-WASO-NRNHL-DTS#-34925; PPWOCRADI0, PCU00RP14.R50000]

National Register of Historic Places; Notification of Pending Nominations and Related Actions

AGENCY: National Park Service, Interior.

ACTION: Notice.

SUMMARY: The National Park Service is soliciting electronic comments on the significance of properties nominated before November 19, 2022, for listing or related actions in the National Register of Historic Places.

DATES: Comments should be submitted electronically by December 23, 2022.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 19, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

CALIFORNIA

San Francisco County

Bethlehem Shipbuilding Corporation Hospital, 331 Pennsylvania Ave., San Francisco, SG100008498

Compton's Cafeteria, 101-102 Taylor St., San Francisco, SG100008499

DISTRICT OF COLUMBIA

District of Columbia

Schlitz Brewing Company Washington Branch and National Geographic Society Warehouse, 326 R St. NE, Washington, SG100008512

IOWA

Cerro Gordo County

Clear Lake Lake Wall, 10 North Lake View Dr., Clear Lake, SG100008506

MAINE

Cumberland County

St. Joseph's Academy and Convent-Catherine McAuley School (Boundary Increase), 605 and 631 Stevens Ave., Portland, BC100008511

Knox County

Miller's Garage, 25 Rankin St., Rockland, SG100008495

MICHIGAN

Allegan County

Saugatuck Gap Filler Annex, 753 Park St., Saugatuck, SG100008508

TEXAS

Bexar County

Billy Mitchell Village, 201-245 Croyden Ave., 201-435 Cropsey Ave., 101-160 Camelot Ct., 102-132 General Ent Ct., San Antonio, SG100008496

VERMONT

Bennington County

Bennington College Historic District, 1 College Dr., Bennington, SG100008509

VIRGINIA

Martinsville Independent City

Martinsville Historic District (Boundary Decrease), Roughly bounded by VA 457, Danville RR tracks, Clay St., and Market St., Martinsville, BC100008501

Martinsville Historic District (Boundary Increase), Fayette, Church, Market, Moss, Bridge, Broad, and Ellsworth Sts., Cleveland Ave., Martinsville, BC100008502

WYOMING

Campbell County

Gillette Downtown Historic District, Downtown Gillette south of the Burlington Northern-Santa Fe Railroad tracks and on both sides of South Gillette Ave. from 1st St. to 7th St., Gillette, SG100008517

Converse County

South Douglas Residential Historic District, Bounded by Elm, Erwin, west side of South 4th, and east side of South 6th Sts., Douglas, SG100008516

Sheridan County

George, Stephen, Homestead (Ranches, Farms, and Homesteads in Wyoming, 1860-1960 MPS), 86 Peno Rd., Sheridan, MP100008514

First Congregational Church, 101 West Works St., Sheridan, SG100008515

Teton County

Weston, Henry and Estella, House, 165 East Broadway, Jackson, SG100008513

In the interest of preservation, a SHORTENED comment period has been requested for the following resource:

MARYLAND

Anne Arundel County

Etowah, 4056 Solomon's Island Rd., Harwood vicinity, SG100008494, Comment period: 3 days

Additional documentation has been received for the following resources:

MAINE

Cumberland County

St. Joseph's Academy and Convent-Catherine McAuley School (Additional Documentation), 605 and 631 Stevens Ave., Portland, AD100000806

VIRGINIA

Martinsville Independent City

Martinsville Historic District (Additional Documentation), Roughly bounded by VA 457, Danville RR tracks, Clay St., and Market St., Martinsville, AD98001317

Nominations submitted by Federal Preservation Officers:

The State Historic Preservation Officer reviewed the following nominations and responded to the Federal Preservation Officer within 45 days of receipt of the nominations and supports listing the properties in the National Register of Historic Places.

DISTRICT OF COLUMBIA

District of Columbia

Frederick Douglass National Historic Site (Boundary Increase), 1411 W St. SE, Washington, BC100008504

Frederick Douglass National Historic Site (Additional Documentation), 1411 W St. SE, Washington, AD66000033

NEW JERSEY

Hudson County

Ellis Island (Additional Documentation), Ellis Island, New York Harbor, Jersey City vicinity, AD66000058

NEW YORK

New York County

Ellis Island (Additional Documentation), Ellis Island, New York Harbor, New York vicinity, AD66000058

Authority: Section 60.13 of 36 CFR part 60.

Dated: November 23, 2022.
Sherry A. Frear,
Chief, National Register of Historic Places/National Historic Landmarks Program.

[FR Doc. 2022-26657 Filed 12-7-22; 8:45 am]

BILLING CODE 4312-52-P